DEPARTMENT OF THE INTERIOR

Bureau of Land Management

43 CFR Part 3000

[BLM_HQ_FRN_MO4500172991]

RIN 1004-AE97

Minerals Management: Adjustment of Cost Recovery Fees

AGENCY: Bureau of Land Management, Interior.

ACTION: Final rule.

SUMMARY: This final rule updates the fees set forth in the Department of the Interior's onshore mineral resources regulations for the processing of certain minerals program-related actions. It also adjusts certain filing fees for minerals-related documents. These updated fees include those for actions such as lease renewals, mineral patent adjudications, and Applications for Permits to Drill (APDs).

DATES: This final rule is effective on October 1, 2023.

ADDRESSES: You may send inquiries or suggestions to Director (630), Bureau of Land Management, 1849 C St. NW, Room 5646, Washington, DC 20240; Attention: RIN 1004-AE97.

FOR FURTHER INFORMATION CONTACT: Yvette M. Fields, Chief, Division of Fluid Minerals, 240-712-8358, yfields@blm.gov; Rebecca Good, Acting Chief, Division of Solid Minerals, 307-251-3487, rgood@blm.gov; or Faith Bremner, Regulatory Analyst, Division of Regulatory Affairs, fbremner@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

I. Background

Federal agencies are authorized to charge processing costs by the Independent Offices Appropriation Act of 1952, 31 U.S.C. 9701. The Bureau of Land Management (BLM) also has specific authority to charge fees for processing applications and other documents relating to public lands under Section 304 of the Federal Land Policy and Management Act of 1976 (FLPMA), 43 U.S.C. 1734. In 2005, the BLM published a final cost recovery rule (70 FR 58853) that established new fees or revised fees and service charges for processing documents related to its minerals programs (“2005 Cost Recovery Rule”). The 2005 Cost Recovery Rule also established the method that the BLM would use to adjust those fees and service charges for inflation on an annual basis.

The regulations at 43 CFR 3000.12(a) provide that the BLM will annually adjust fees established in Subchapter C (43 CFR parts 3000-3900) according to changes in the Implicit Price Deflator for Gross Domestic Product (IPD-GDP), which is published quarterly by the U.S. Department of Commerce. See also 43 CFR 3000.10. This final rule updates those 48 fees and service charges consistent with that direction. The fee adjustments in this final rule are based on the mathematical formula set forth in the 2005 Cost Recovery Rule. The public had an opportunity to comment on that adjustment procedure as part of the 2005 rulemaking.

Section 3021(b) of the National Defense Authorization Act of 2015 (Pub. L. 113-291; 30 U.S.C. 191(d)) (the Act) directs the BLM to collect a fee for each new APD submitted to the BLM for fiscal years (FY) 2016 through 2026 and requires the fee amount to be adjusted annually for inflation. The Act set the initial fee amount at $9,500 as of October 1, 2015, with updated annual fee amounts to be indexed for United States dollar inflation from that date as measured by the Consumer Price Index (CPI). 30 U.S.C. 191(d)(2). The CPI is used only for the APD fee inflation adjustment while the IPD-GDP is used for all the other fees that are being adjusted for inflation. Public comment procedures are unnecessary for this adjustment as the authorizing statute does not give the BLM the discretion to vary the amount of the inflation adjustment for the APD to reflect any views or suggestions provided by commenters.

Accordingly, the Department of the Interior for good cause finds under 5 U.S.C. 553(b)(B) and (d)(3) that notice and public comment procedures are unnecessary and that the fee adjustments in this final rule may be effective less than 30 days after publication since periodic fee adjustments may be made in a final rule without opportunity for notice and comment. See 43 CFR 3000.10(c).

II. Discussion of Final Rule

As set forth in the 2005 Cost Recovery Rule, the updates for 48 of the fees covered by this rule are based on the change in the IPD-GDP. The BLM's minerals program publishes the updated cost recovery fees annually, at the start of each fiscal year.

This final rule updates the current (FY 2023) cost recovery fees for use in FY 2024. The current fees were set by the cost recovery fee rule published on September 21, 2022 (87 FR 57637), effective October 1, 2022. The update in this final rule adjusts 48 of the FY 2023 fees based on the change in the IPD-GDP from the 4th Quarter of 2021 to the 4th Quarter of 2022. The APD fee adjustment is based on the percentage change in the U.S. Bureau of Labor Statistics' CPI for all goods and all urban consumers (CPI-U) from June 2022 to June 2023.

Under this final rule, 10 fees will remain the same and 38 fees will increase. Except for the per-acre cost for nominating lands for geothermal development, which is less than $1, the filing fees are not adjusted if the change is less than $5. For example, if inflation adjusted a fee from $15 to $17.24, the filing fee would remain at $15.

Of the 38 fees that are being increased by this final rule, 18 fees will increase by $5, six fees will increase by $10, two fees will increase by $15, two fees will increase by $25, three fees will increase by $30, two fees will increase by $35, and one fee will increase by $40. The largest increase, $350, will be applied to the APD fee, which will increase from $11,805 to $12,155. The fee for adjudicating a patent application containing more than 10 claims will increase by $230—from $3,585 to $3,815. The fee for adjudicating a patent application containing 10 or fewer claims will increase by $115—from $1,790 to $1,905. The smallest increase—1 cent—will be added to the per-acre cost of nominating lands for geothermal leasing, which will rise from 13 cents per acre to 14 cents per acre. To see the specific fee increases, please refer to the table below.

It is important to note that the “real” values of the fees are not actually increasing, since real values account for the effect of inflation. In real terms, the values of the fees are simply being adjusted to account for the changes in the prices of goods and services produced in the United States.

The calculations that resulted in the new fees are included in the following table:

¹ The Existing Fee was established by the 2022 (FY 2023) cost recovery fee update rule published on September 21, 2022 (87 FR 57637), effective October 1, 2022.

² The Existing Value is the figure from the New Value column in the previous year's rule.

³ From 4th Quarter 2021 (121.7) to 4th Quarter 2022 (129.5), the IPD-GDP increased by 6.41 percent. The value in the IPD-GDP Increase column is 6.41 percent of the “Existing Value.”

⁴ The sum of the “Existing Value” and the “IPD-GDP Increase” is the “New Value.”

⁵ The “New Fee” for FY 2024 is the “New Value” rounded to the nearest $5 for values equal to or greater than $1 or rounded to the nearest penny for values under $1.

Fixed cost recovery fees | Existing fee ¹ (FY 2023) | Existing value ² | IPD-GDP increase ³ | New value ⁴ | New fee ⁵ (FY 2024)
Oil & Gas (parts 3100, 3110, 3120, 3130, 3150):
Competitive lease application | $185 | $184.904 | $11.852 | $196.756 | $195
Assignment and transfer of record title or operating rights | 105 | 106.665 | 6.837 | 113.502 | 115
Overriding royalty transfer, payment out of production | 15 | 14.219 | 0.911 | 15.130 | 15
Name change, corporate merger or transfer to heir/devisee | 250 | 248.886 | 15.953 | 264.839 | 265
Lease consolidation | 525 | 526.226 | 33.731 | 559.957 | 560
Lease renewal or exchange | 475 | 476.464 | 30.541 | 507.005 | 505
Lease reinstatement, Class I | 90 | 92.432 | 5.924 | 98.356 | 100
Leasing under right-of-way | 475 | 476.464 | 30.541 | 507.005 | 505
Geophysical exploration permit application—Alaska | 30 | 29.104 | 1.865 | 30.969 | 30
Renewal of exploration permit—Alaska | 30 | 29.104 | 1.865 | 30.969 | 30
Geothermal (part 3200):
Noncompetitive lease application | 475 | 476.464 | 30.541 | 507.005 | 505
Competitive lease application | 185 | 184.904 | 11.852 | 196.756 | 195
Assignment and transfer of record title or operating right | 105 | 106.665 | 6.837 | 113.502 | 115
Name change, corporate merger or transfer to heir/devisee | 250 | 248.886 | 15.953 | 264.839 | 265
Lease consolidation | 525 | 526.226 | 33.731 | 559.957 | 560
Lease reinstatement | 90 | 92.432 | 5.924 | 98.356 | 100
Nomination of lands | 135 | 133.123 | 8.533 | 141.656 | 140
Plus per acre nomination fee | 0.13 | 0.130 | 0.008 | 0.138 | 0.14
Site license application | 70 | 71.109 | 4.558 | 75.667 | 75
Assignment or transfer of site license | 70 | 71.109 | 4.558 | 75.667 | 75
Coal (parts 3400, 3470):
License to mine application | 15 | 14.219 | 0.911 | 15.130 | 15
Exploration license application | 390 | 391.120 | 25.070 | 416.190 | 415
Lease or lease interest transfer | 80 | 78.237 | 5.014 | 83.251 | 85
Leasing of Solid Minerals Other Than Coal and Oil Shale (parts 3500, 3580):
Applications other than those listed below | 45 | 42.670 | 2.735 | 45.405 | 45
Prospecting permit amendment | 80 | 78.237 | 5.014 | 83.251 | 85
Extension of prospecting permit | 130 | 128.001 | 8.204 | 136.205 | 135
Lease modification or fringe acreage lease | 35 | 35.565 | 2.279 | 37.844 | 40
Lease renewal | 610 | 611.582 | 39.202 | 650.784 | 650
Assignment, sublease, or transfer of operating rights | 35 | 35.566 | 2.279 | 37.845 | 40
Transfer of overriding royalty | 35 | 35.566 | 2.279 | 37.845 | 40
Use permit | 35 | 35.566 | 2.279 | 37.845 | 40
Shasta and Trinity hardrock mineral lease | 35 | 35.566 | 2.279 | 37.845 | 40
Renewal of existing sand and gravel lease in Nevada | 35 | 35.566 | 2.279 | 37.845 | 40
Multiple Use; Mining (Group 3700):
Notice of protest of placer mining operations | 15 | 14.219 | 0.911 | 15.130 | 15
Mining Law Administration (parts 3800, 3810, 3830, 3850, 3860, 3870):
Application to open lands to location | 15 | 14.219 | 0.911 | 15.130 | 15
Notice of location | 20 | 21.321 | 1.366 | 22.687 | 25
Amendment of location | 15 | 14.219 | 0.911 | 15.130 | 15
Transfer of mining claim/site | 15 | 14.219 | 0.911 | 15.130 | 15
Recording an annual FLPMA filing | 15 | 14.219 | 0.911 | 15.130 | 15
Deferment of assessment work | 130 | 128.001 | 8.204 | 136.205 | 135
Recording a notice of intent to locate mining claims on Stockraising Homestead Act lands | 35 | 35.566 | 2.279 | 37.845 | 40
Mineral patent adjudication (more than ten claims) | 3,585 | 3,584.147 | 229.743 | 3,813.890 | 3,815
(ten or fewer claims) | 1,790 | 1,792.054 | 114.870 | 1,906.924 | 1,905
Adverse claim | 130 | 128.001 | 8.204 | 136.205 | 135
Protest | 80 | 78.237 | 5.014 | 83.251 | 85
Oil Shale Management (parts 3900, 3910, 3930:
Exploration license application | 375 | 375.144 | 24.046 | 399.190 | 400
Assignment or sublease of record title or overriding royalty | 75 | 76.306 | 4.891 | 81.197 | 80

Fixed cost recovery fees | Existing fee (FY 2023) ⁶ | Existing value ⁷ | CPI-U increase ⁸ | New value ⁹ | New fee (FY 2024) ¹⁰
Oil and Gas Operations/Production (parts 3160, 3170):
Application for Permit to Drill | 11,805 | 11,805.790 | 350.631 | 12,156.421 | 12,155

III. How Fees Are Adjusted

⁶ The Existing Fee was established by the 2022 (FY 2023) cost recovery fee update rule published on September 21, 2022 (87 FR 57637), effective October 1, 2022.

⁷ The existing value is the adjusted CPI-U for June 2022 to June 2023. The statute requires that the APD calculation be based on CPI-U.

⁸ From June 2022 to June 2023, the adjusted CPI-U increased by 2.97%.

⁹ The sum of the “Existing Value” and the “CPI-U Increase” is the “New Value.”

¹⁰ The new APD fee for FY 2024 is the “New Value” rounded to the nearest $10.

The BLM took the base values (or “existing values”) upon which it derived the FY 2023 cost recovery fees (or “existing fees”) and multiplied them by the percent change in the IPD-GDP (6.41 percent for this update) to generate the “IPD-GDP increases” (in dollars). The BLM then added the “IPD-GDP increases” to the “existing values” to generate the “new values.” The BLM then calculated the “new fees” by rounding the “new values” to the closest multiple of $5 for fees equal to or greater than $1, or to the nearest cent for fees under $1. The “new fees” are the updated cost recovery fees for FY 2024.

The source for IPD-GDP data is the U.S. Department of Commerce, Bureau of Economic Analysis website, specifically, “Table 1.1.9. Implicit Price Deflators for Gross Domestic Product.” ¹¹

¹¹ Available on the web at https://apps.bea.gov/iTable/?1301=i&1303=13&ReqID=13&isuri=1&step=3. Accessed by the BLM on July 14, 2023.

The updated APD fee amount reflects an adjustment to the current fee of $11,805 based on the percentage change in the CPI-U from the end of June 2022 to the end of June 2023. The CPI-U for June 2023 is 2.97 percent higher than the CPI-U for June 2022. Increasing the 2023 fee of $11,805 by 2.97 percent and rounding the product to the nearest $10 produces a 2024 fee of $12,155.

The source for CPI-U data is the BLS, U.S. Bureau of Labor Statistics, Consumer Price Index for All Urban Consumers: All Items in U.S. City Average [CPIAUCSL], retrieved from FRED, Federal Reserve Bank of St. Louis.¹²

¹² Available on the web at https://fred.stlouisfed.org/series/CPIAUCSL. Accessed by the BLM on July 14, 2023.

IV. Procedural Matters

Regulatory Planning and Review (Executive Order 12866)

This document is not a significant rule, and the Office of Management and Budget has not reviewed this final rule under Executive Order 12866.

The BLM's assessment of the benefits and costs of this rule show that it is not significant under Section 3(f)(1) of E.O. 12866, as amended by E.O. 14094. This rule will not have an annual effect on the economy of $200 million or more. It will not adversely affect in a material way the economy, a sector of the economy, productivity, competition, jobs, the environment, public health or safety, or State, local, or Tribal Governments or communities. The changes in today's rule are much smaller than those in the 2005 Cost Recovery Rule, which did not approach the threshold for significance.

This final rule will not create inconsistencies or otherwise interfere with an action taken or planned by another agency. This rule does not change the relationships of the onshore minerals programs with other agencies' actions. These relationships are included in agreements and memoranda of understanding that will not change with this rule.

In addition, this final rule does not materially affect the budgetary impact of entitlements, grants, or loan programs, or the rights and obligations of their recipients. This rule applies an inflationary adjustment factor to existing user fees for processing certain actions associated with the onshore minerals programs.

Finally, this final rule will not raise novel legal or policy issues. As explained earlier, this rule simply implements an annual process to account for inflation that was adopted by and explained in the 2005 Cost Recovery Rule and Section 3021(b) of the National Defense Authorization Act of 2015.

The Regulatory Flexibility Act

This final rule will not have a significant economic effect on a substantial number of small entities as defined under the Regulatory Flexibility Act (5 U.S.C. 601 et seq.). As a result, a Regulatory Flexibility Analysis is not required. The Small Business Administration defines small entities as individual, limited partnerships, or small companies considered to be at arm's length from the control of any parent companies if they meet the following size requirements as established for each North American Industry Classification System (NAICS) code:

• Iron ore mining (NAICS code 212210): 750 or fewer employees

• Gold ore mining (NAICS code 212221): 1,500 or fewer employees

• Silver ore mining (NAICS code 212222): 250 or fewer employees

• Uranium-Radium-Vanadium ore mining (NAICS code 212291): 250 or fewer employees

• All Other Metal ore mining (NAICS code 212299): 750 or fewer employees

• Bituminous Coal and Lignite Surface Mining (NAICS code 212111): 1,250 or fewer employees

• Bituminous Coal Underground Mining (NAICS code 212112): 1,500 or fewer employees

• Crude Petroleum Extraction (NAICS code 211120): 1,250 or fewer employees

• Natural Gas Extraction (NAICS code 211130): 1,250 or fewer employees

• All Other Non-Metallic Mineral Mining (NAICS code 212399): 500 or fewer employees

The SBA would consider many, if not most, of the operators with whom the BLM works in the onshore minerals programs to be small entities. The BLM notes that this final rule does not affect service industries, for which the SBA has a different definition of “small entity.”

The final rule may affect a large number of small entities because 38 fees for activities on public lands will be increased. The highest adjustment, in dollar terms, is for the APD fee. That fee will increase by $350, from $11,805 to $12,155. It is important to note that the “real” values of the fees are not actually increasing, since real values account for the effect of inflation. In real terms, the values of the fees are simply being adjusted to account for the changes in the prices of goods and services produced in the United States. Accordingly, the BLM has concluded that the economic effect of the rule's changes will not be significant, even for small entities.

For the 2005 Cost Recovery Rule, the BLM completed a Regulatory Flexibility Act threshold analysis. That analysis concluded that the fees would not have a significant economic effect on a substantial number of small entities. The fee increases implemented in this rule are substantially smaller than those provided for in the 2005 Cost Recovery Rule.

The APD fee increase is mandated by Section 3021(b) of the National Defense Authorization Act of 2015 (Pub. L. 113-291; 30 U.S.C. 191(d)) (the Act). The Act directs the BLM to collect a fee for each new APD submitted to the BLM for fiscal years (FY) 2016 through 2026 and requires the fee amount to be adjusted for inflation.

Congressional Review Act

This final rule is not a “major rule” as defined at 5 U.S.C. 804(2). The final rule will not have an annual effect on the economy greater than $100 million; it will not result in major cost or price increases for consumers, industries, government agencies, or regions; and it will not have significant adverse effects on competition, employment, investment, productivity, innovation, or the ability of U.S.-based enterprises to compete with foreign-based enterprises. Accordingly, a Small Entity Compliance Guide is not required.

Executive Order 13132, Federalism

This final rule will not have a substantial direct effect on the States, on the relationship between the National Government and the States, or on the distribution of power and responsibilities among the various levels of government. In accordance with Executive Order 13132, the BLM therefore finds that the final rule does not have federalism implications, and a federalism assessment is not required.

The Paperwork Reduction Act of 1995

This final rule does not contain information-collection requirements that require a control number from the Office of Management and Budget in accordance with the Paperwork Reduction Act of 1995 (44 U.S.C. 3501-3521). After the effective date of this rule, the new fees may affect the non-hour burdens associated with the following control numbers:

Oil and Gas

(1) 1004-0034, which expires September 30, 2024;

(2) 1004-0137, which expires January 31, 2025;

(3) 1004-0162, which expires December 31, 2024;

(4) 1004-0185, which expires July 31, 2025;

Geothermal

(5) 1004-0132, which expired July 31, 2023; ¹³

¹³ A renewal request for control number 1004-0132 was submitted to the Office of Management and Budget (OMB) on July 19, 2023.

Coal

(6) 1004-0073, which expired April 30, 2023; ¹⁴

¹⁴ A renewal request for control number 1004-0073 was submitted to OMB on December 27, 2022.

Mining Claims

(7) 1004-0025, which expires July 31, 2025;

(8) 1004-0114, which expired April 30, 2023; ¹⁵ and

¹⁵ A renewal request for control number 1004-0114 was submitted to OMB on January 19, 2023.

Leasing of Solid Minerals Other Than Oil Shale

(9) 1004-0121, which expires August 31, 2025.

Takings Implication Assessment (Executive Order 12630)

As required by Executive Order 12630, the BLM has determined that this final rule will not cause a taking of private property. No private property rights will be affected by a rule that merely updates fees. The BLM therefore certifies that this final rule does not represent a governmental action capable of interference with constitutionally protected property rights.

Civil Justice Reform (Executive Order 12988)

In accordance with Executive Order 12988, the BLM finds that this final rule will not unduly burden the judicial system and meets the requirements of sections 3(a) and 3(b)(2) of the Executive order.

The National Environmental Policy Act (NEPA)

The BLM has determined that this final rule qualifies as a routine financial transaction and a regulation of an administrative, financial, legal, or procedural nature that is categorically excluded from environmental review under NEPA pursuant to 43 CFR 46.205 and 46.210(c) and (i). The final rule does not meet any of the 12 criteria for exceptions to categorical exclusions listed at 43 CFR 46.215. Therefore, neither an environmental assessment nor an environmental impact statement is required in connection with the rule (40 CFR 1508.4).

The Unfunded Mandates Reform Act of 1995

The BLM has determined that this final rule is not significant under the Unfunded Mandates Reform Act of 1995, 2 U.S.C. 1501 et seq., because it will not result in State, local, private sector, or Tribal government expenditures of $100 million or more in any one year, 2 U.S.C. 1532. This rule will not significantly or uniquely affect small governments. Therefore, the BLM is not required to prepare a statement containing the information required by the Unfunded Mandates Reform Act.

Consultation and Coordination With Indian Tribal Governments (Executive Order 13175)

In accordance with Executive Order 13175, the BLM has determined that this final rule does not include policies that have Tribal implications. Specifically, the rule would not have substantial direct effects on one or more Indian Tribes. Consequently, the BLM did not use the consultation process set forth in Section 5 of the Executive order.

Information Quality Act

In developing this final rule, the BLM did not conduct or use a study, experiment, or survey requiring peer review under the Information Quality Act (Pub. L. 106-554).

Effects on the Nation's Energy Supply (Executive Order 13211)

In accordance with Executive Order 13211, the BLM has determined that this final rule is not likely to have a significant adverse effect on the supply, distribution, or use of energy. It merely adjusts certain administrative cost recovery fees to account for inflation.

Author

The principal author of this final rule is Faith Bremner of the Division of Regulatory Affairs, Bureau of Land Management.

List of Subjects in 43 CFR Part 3000

Public lands—mineral resources, Reporting and recordkeeping requirements.

For reasons stated in the preamble, the Bureau of Land Management amends 43 CFR part 3000 as follows:

PART 3000—MINERALS MANAGEMENT: GENERAL

1. The authority citation for part 3000 continues to read as follows:

Authority: 16 U.S.C. 3101 et seq.; 30 U.S.C. 181 et seq., 301-306, 351-359, and 601 et seq.; 31 U.S.C. 9701; 40 U.S.C. 471 et seq.; 42 U.S.C. 6508; 43 U.S.C. 1701 et seq.; and Pub. L. 97-35, 95 Stat. 357.

Subpart 3000—General

2. Amend § 3000.12 by revising paragraph (a) to read as follows:

§ 3000.12 What is the fee schedule for fixed fees?

(a) The table in this section shows the fixed fees that must be paid to the BLM for the services listed for Fiscal Year (FY) 2024. These fees are nonrefundable and must be included with documents filed under this chapter. Fees will be adjusted annually according to the change in the Implicit Price Deflator for Gross Domestic Product (IPD-GDP) and the change in the Consumer Price Index for all goods and all urban consumers (CPI-U) by way of publication of a final rule in the Federal Register and will subsequently be posted on the BLM website (https://www.blm.gov) before October 1 each year. Revised fees are effective each year on October 1.

Table 1 to Paragraph (a)—FY 2024 Processing and Filing Fee Table
Document/action | FY 2024 fee
Oil & Gas (parts 3100, 3110, 3120, 3130, 3150):
Competitive lease application | $195.
Assignment and transfer of record title or operating rights | 115.
Overriding royalty transfer, payment out of production | 15.
Name change, corporate merger or transfer to heir/devisee | 265.
Lease consolidation | 560.
Lease renewal or exchange | 505.
Lease reinstatement, Class I | 100.
Leasing under right-of-way | 505.
Geophysical exploration permit application—Alaska | 30.
Renewal of exploration permit—Alaska | 30.
Geothermal (part 3200):
Noncompetitive lease application | 505.
Competitive lease application | 195.
Assignment and transfer of record title or operating rights | 115.
Name change, corporate merger or transfer to heir/devisee | 265.
Lease consolidation | 560.
Lease reinstatement | 100.
Nomination of lands | 140.
plus per acre nomination fee | 0.14.
Site license application | 75.
Assignment or transfer of site license | 75.
Coal (parts 3400, 3470):
License to mine application | 15.
Exploration license application | 415.
Lease or lease interest transfer | 85.
Leasing of Solid Minerals Other Than Coal and Oil Shale (parts 3500, 3580):
Applications other than those listed below | 45.
Prospecting permit application amendment | 85.
Extension of prospecting permit | 135.
Lease modification or fringe acreage lease | 40.
Lease renewal | 650.
Assignment, sublease, or transfer of operating rights | 40.
Transfer of overriding royalty | 40.
Use permit | 40.
Shasta and Trinity hardrock mineral lease | 40.
Renewal of existing sand and gravel lease in Nevada | 40.
Public Law 359; Mining in Powersite Withdrawals: General (part 3730):
Notice of protest of placer mining operations | 15.
Mining Law Administration (parts 3800, 3810, 3830, 3860, 3870):
Application to open lands to location | 15.
Notice of location * | 25.
Amendment of location | 15.
Transfer of mining claim/site | 15.
Recording an annual FLPMA filing | 15.
Deferment of assessment work | 135.
Recording a notice of intent to locate mining claims on Stockraising Homestead Act lands | 40.
Mineral patent adjudication | 3,815 (more than 10 claims).
| 1,905 (10 or fewer claims).
Adverse claim | 135.
Protest | 85.
Oil Shale Management (parts 3900, 3910, 3930):
Exploration license application | 400.
Application for assignment or sublease of record title or overriding royalty | 80.
Onshore Oil and Gas Operations and Production (parts 3160, 3170):
Application for Permit to Drill | 12,155.
* To record a mining claim or site location, this processing fee along with the initial maintenance fee and the one-time location fee required by statute (43 CFR part 3833) must be paid.

* * * * *

Laura Daniel-Davis,
Principal Deputy Assistant Secretary, Land and Minerals Management.

[FR Doc. 2023-21191 Filed 9-27-23; 8:45 am]

BILLING CODE 4331-29-P